DEPARTMENT OF THE INTERIOR

National Park Service

[NPS-PWR-KAHO-17585; PPPWKAHOS0, PPMPSPD1Z.S00000]

Notice of Request for Nominations and Meeting Cancellation for the Na Hoa Pili O Kaloko-Honokohau National Historical Park Advisory Commission

AGENCY: National Park Service, Interior.

ACTION: Request for nominations and meeting cancellation.

SUMMARY: The National Park Service, U.S. Department of the Interior, proposes to appoint new members to the Na Hoa Pili O Kaloko-Honokohau (The Friends of Kaloko-Honokohau), an Advisory Commission for the park. The Superintendent, Kaloko-Honokohau National Historical Park, acting as administrative lead, is requesting nominations for qualified persons to serve as members of the Advisory Commission.

In accordance with the Federal Advisory Committee Act (5 U.S.C. Appendix 1-16), notice is hereby given that the August 7, 2015, meeting of the Advisory Commission previously announced in the Federal Register, Vol. 79, December 22, 2014, pp. 76365, is cancelled.

DATES: Nominations must be postmarked by July 13, 2015.

ADDRESSES: Nominations should be sent to Tammy Duchesne, Superintendent, Kaloko-Honokohau National Historical Park, 73-4786 Kanalani Street, Suite #14, Kailua-Kona, HI 96740.

FOR FURTHER INFORMATION CONTACT: Jeff Zimpfer, National Park Service, Environmental Protection Specialist, Kaloko-Honokohau National Historical Park, 73-4786 Kanalani St., #14, Kailua Kona, HI 96740, telephone number (808) 329-6881, ext. 1500, or email jeff_zimpfer@nps.gov.

SUPPLEMENTARY INFORMATION: The Kaloko-Honokohau National Historical Park and the Advisory Commission were established by Public Law 95-625, November 10, 1978, as amended.

The purpose of the Advisory Commission is to advise the Director of the National Park Service with respect to the historical, archeological, cultural, and interpretive programs of the Park. The Commission is to afford particular emphasis to the quality of traditional native Hawaiian cultural practices demonstrated in the Park.

The Advisory Commission consists of nine members, each appointed by the Secretary of the Interior, and four ex officio non-voting members. All nine Secretarial appointees must be residents of the State of Hawaii, and at least six of those appointees must be native Hawaiians. Native Hawaiians are defined as any lineal descendents of the race inhabiting the Hawaiian Islands prior to the year 1778. At least five members will be appointed from nominations received from Native Hawaiian organizations to represent the interests of those organizations. The other four members will represent other Native Hawaiian interests. The nine voting members will be appointed for 5-year terms.

The four ex officio members include the Park Superintendent, the Pacific West Regional Pacific Islands Director, one person appointed by the Governor of Hawaii, and one person appointed by the Mayor of the County of Hawaii. The Secretary of the Interior shall designate one member of the Commission to be Chairman.

No member may serve more than one term consecutively. Any vacancy in the Commission shall be filled by appointment for the remainder of the term.

We are currently seeking nominations five nomination as follows: (1) Three members to represent Native Hawaiian interests and (2) two members from nominations received from Native Hawaiian organizations to represent the interests of those organizations.

Nominations should be typed and must include each of the following:

A. Brief summary of no more than two (2) pages explaining the nominee's suitability to serve on the Commission.

B. Resume or curriculum vitae.

C. At least one (1) letter of reference.

Members of the Commission will receive no pay, allowances, or benefits by reason of their service on the Commission. However, while away from their homes or regular places of business in the performance of services for the Commission as approved by the Designated Federal Officer, members will be allowed travel expenses, including per diem in lieu of subsistence, in the same manner as persons employed intermittently in Government service are allowed such expenses under Section 5703 of Title 5 of the United States Code.

Individuals who are Federally registered lobbyists are ineligible to serve on all FACA and non-FACA boards, committees, or councils in an individual capacity. The term “individual capacity” refers to individuals who are appointed to exercise their own individual best judgment on behalf of the government, such as when they are designated Special Government Employees, rather than being appointed to represent a particular interest.

All required documents must be compiled and submitted in one complete nomination package. Incomplete submissions (missing one or more of the items described above) will not be considered.

Nominations should be postmarked no later than July 13, 2015, to Tammy Duchesne, Superintendent, Kaloko-Honokohau National Historical Park, 73-4786 Kanalani Street, Suite #14, Kailua-Kona, HI 96740.

Dated: June 4, 2015.
Alma Ripps,
Chief, Office of Policy.

[FR Doc. 2015-14469 Filed 6-11-15; 8:45 am]

BILLING CODE 4310-EE-P